DEPARTMENT OF TRANSPORTATION

Federal Aviation Administration

Electric Vertical Takeoff and Landing and Advanced Air Mobility Integration Pilot Program-Announcement of Establishment of Program and Request for Proposals

AGENCY: Department of Transportation, Federal Aviation Administration (FAA).

ACTION: Notice of the establishment of the Electric Vertical Takeoff and Landing (eVTOL) and Advanced Air Mobility (AAM) Integration Pilot Program (eIPP) extension to submit proposals.

SUMMARY: This action extends the Electric Vertical Takeoff and Landing and Advanced Air Mobility Integration Pilot Program-Announcement of Establishment of Program and Request for Proposals which initially published on September 16, 2025.

DATES: The initial date for interested SLTT governments to submit a proposal to participate in the eIPP in accordance with the SIR posted to sam.gov was to be no later than 3 p.m. ET on December 11, 2025, the FAA proposes to change the information in the dates section to: Interested SLTT governments must submit a proposal to participate in the eIPP in accordance with dates listed in the SIR posted to sam.gov.

FOR FURTHER INFORMATION CONTACT: For general Program questions, Mr. Wade Terrell, Acting Director, Advanced Air Mobility Operations Division, 490 L'Enfant Plaza SW (Suite 500), Washington, DC 20024; telephone (405) 423-7936; email 9-AWA-eIPP@faa.gov; or, for solicitation questions, Mrs. Kristin Frantz, Contracting Officer, AAQ-590, UAS and Emerging Technologies Branch, Federal Aviation Administration, 1701 Columbia Avenue, College Park, GA 30337; telephone (404) 305-5779; email: Kristin.T.Frantz@faa.gov.

Issued in Washington, DC, on December 11, 2025.

Authority: Issued under authority provided by 49 U.S.C. 106(f), 44701(a), and 4470.

Wade E.K. Terrell,
Director, Advanced Air Mobility Operations.

[FR Doc. 2025-23732 Filed 12-22-25; 8:45 am]

BILLING CODE 4910-13-P